DEPARTMENT OF COMMERCE

International Trade Administration

[A-549-822]

Certain Frozen Warmwater Shrimp from Thailand; Corrected Partial Rescission of Antidumping Duty Administrative Review

AGENCY: Import Administration, International Trade Administration, Department of Commerce.

EFFECTIVE DATE: August 3, 2006.

FOR FURTHER INFORMATION CONTACT: Irina Itkin or Alice Gibbons, AD/CVD Operations, Office 2, Import Administration, International Trade Administration, U.S. Department of Commerce, 14th Street and Constitution Avenue, NW, Washington, DC, 20230; telephone (202) 482-0656 and (202) 482-0498, respectively.

SUPPLEMENTARY INFORMATION:

Background

On July 20, 2006, the Department of Commerce (the Department) published in the Federal Register its notice of partial rescission of the antidumping duty administrative review of certain frozen warmwater shrimp from Thailand for the period August 4, 2004, through January 31, 2006. See Certain Frozen Warmwater Shrimp from Thailand; Partial Rescission of Antidumping Duty Administrative Review, 71 FR 41200 (July 20, 2006) (Partial Rescission). In the Partial Rescission, the Department noted that it was rescinding the administrative review with respect to Kiang Huat Sea Hull Trading Frozen Food Public Co., Ltd., based on a timely request for withdrawal. See Partial Rescission, 71 FR at 41201. However, the Department incorrectly spelled this company's name. Specifically, the correct name for this company is Kiang Huat Sea Gull Trading Frozen Food Public Co., Ltd.

We now correct the partial rescission of the 2004-2006 antidumping duty administrative review of certain frozen warmwater shrimp from Thailand as noted above. As a result of this correction, we are rescinding the 2004-2006 administrative review for Kiang Huat Sea Gull Trading Frozen Food Public Co., Ltd.

This corrected partial rescission is issued and published in accordance section 751 of the Tariff Act of 1930, as amended, and 19 CFR 351.213(d)(4).

Dated: July 26, 2006.
Stephen J. Claeys,
Deputy Assistant Secretary for Import Administration.

[FR Doc. E6-12536 Filed 8-2-06; 8:45 am]

BILLING CODE 3510-DS-S